DEPARTMENT OF AGRICULTURE

[FOA No. OPPE-013]

Office of Partnerships and Public Engagement; Outreach and Assistance for Socially Disadvantaged Farmers and Ranchers and Veteran Farmers and Ranchers

Catalog of Federal Domestic Assistance (CFDA) No.: 10.443—Outreach and Assistance for Socially Disadvantaged Farmers and Ranchers and Veteran Farmers and Ranchers.

AGENCY: Office of Partnerships and Public Engagement (OPPE), USDA.

ACTION: Funding Opportunity Announcement (FOA) FY 2019.

SUMMARY: This notice announces the availability of funds and solicits applications from community-based and non-profit organizations, institutions of higher education, and Tribal entities to compete for financial assistance through the Outreach and Assistance for Socially Disadvantaged Farmers and Ranchers and Veteran Farmers and Ranchers Program (hereinafter referred to as the “2501 Program”). Individual applicants do not meet the eligibility criteria.

Funding is being provided to eligible entities who, in partnership with the Office of Partnerships and Public Engagement (OPPE), will conduct outreach initiatives and training to achieve the overall goal of the 2501 Program—to assist socially disadvantaged and veteran farmers and ranchers in owning and operating farms and ranches while increasing their participation in agricultural programs and services provided by the U.S. Department of Agriculture (USDA). This is a non-construction grant.

DATES: Only one project proposal may be submitted per eligible entity. Proposals must be submitted through www.grants.gov and received by August 15, 2019, at 11:59 p.m. EST. Proposals submitted after this deadline will not be considered for funding.

OPPE will host two (2) teleconferences during the open period of this announcement to answer any clarifying questions as follows:

• July 23, 2019 at 2 p.m. EST, Telephone Number: (800) 230-1085, Passcode: 469845

• August 6, 2019 at 2 p.m. EST, Telephone Number: (800) 230-1059, Passcode: 469846

Filing a Complaint of Discrimination

To file a program discrimination complaint, you may obtain a complaint form by sending an email to Cr-info@ascr.usda.gov. You or your authorized representative must sign the complaint form. You are not required to use the complaint form. You may write a letter instead. If you write a letter, it must contain all the information requested in the form and be signed by you or your authorized representative. Incomplete information will delay the processing of your complaint. Employment civil rights complaints will not be accepted through this email address.

Send your completed complaint form or letter to USDA by mail, fax, or email:

Mail: U.S. Department of Agriculture, Director, Office of Adjudication, 1400 Independence Avenue SW, Washington, DC 20250-9410.

Fax: (202) 690-7442.

Email: program.intake@usda.gov.

FOR FURTHER INFORMATION PLEASE CONTACT: U.S. Department of Agriculture, Office of Partnerships and Public Engagement, Attn: Kenya Nicholas, Assistant Deputy Director, J.L. Whitten Building, Room 520-A, 1400 Independence Avenue SW, Washington, DC 20250, Phone: (202) 720-6350, Fax: (202) 720-7704, Email: 2501grants@usda.gov.

Persons with Disabilities: Persons who require alternative means for communication (Braille large print, audiotape, etc.), should contact USDA's TARGET Center at (202) 720-2600 (voice and TDD). Additionally, alternative means for submissions due to disability status will be approved on a case-by-case basis.

SUPPLEMENTARY INFORMATION: Funding/Awards: The total funding potentially available for this competitive opportunity is approximately $16 million (including funds provided in the 2018 Farm Bill and the Consolidated Appropriations Act of 2019). The OPPE will award grants from this announcement, subject to availability of funds and the quality of applications received. All applicants will compete based on their organization's entity type (e.g., nonprofit organization or higher education institution), as described below. Projects that are part of multi-year initiatives will be funded in accordance with the approved statement of work. Additionally, USDA has the discretion to fund multi-year projects in an effort to maximize outreach and technical assistance ensuring geographical distribution of funds. Eligible entities may receive subsequent years funding provided that:

(a) Activities and associated costs do not overlap with projects awarded in previous years; and

(b) recipients are current and compliant with existing financial and progress reporting. The progress of existing projects, along with the percentage of funds used to date, may impact funding decisions.

Funding will be awarded based on peer competition within the three categories described below along with the amount of anticipated funding for each category. The OPPE reserves discretion to allocate funding between the three categories based upon the number and quality of applications received. There is no commitment by the OPPE to fund any particular application or to select a specific number of recipients within each category.

1. Category #1: Eligible entities described in Sections III.A.2, III.A.3, and III.A.4 (1890 Land Grant colleges and universities, 1994 Tribal Land-Grant, Alaska Native and American Indian Tribal colleges and universities, and Hispanic-Serving Institutions of higher education).

2. Category #2: Eligible entities described in Sections III.A.1 and III.A.6 (i.e., nonprofit organizations, community-based organizations, including a network or a coalition of community-based organizations, Indian Tribes (as defined in 25 U.S.C. 450b), and National Tribal organizations).

3. Category #3: Eligible entities described in Sections III.A.5 and III.A.7 (i.e., all other institutions of higher education including 1862 colleges, nonprofit organizations without a 501(c)(3) status certification from the IRS, and other organizations or institutions, including those that received funding under this program before January 1, 1996).

Contents of This Announcement

I. Funding Opportunity Description

II. Award Information

III. Eligibility Information

IV. Proposal and Submission Information

V. Application Review Information

VI. Award Administration Information

I. Funding Opportunity Description

A. Background

The OPPE is committed to ensuring that socially disadvantaged and veteran farmers and ranchers are able to equitably participate in USDA programs. Differences in demographics, culture, economics, and other factors preclude a single approach to identifying solutions that can benefit our underserved farmers and ranchers. Community-based and non-profit organizations, higher education institutions, and eligible Tribal entities can play a critical role in addressing the unique difficulties they face and can help improve their ability to start and maintain successful agricultural businesses. With 2501 Program funding, organizations can extend our outreach efforts to connect with and assist local socially disadvantaged and veteran farmers and ranchers and to provide them with information on available USDA resources.

1. The 2501 Program was authorized by the Food, Agriculture, Conservation, and Trade Act of 1990. The Food, Conservation, and Energy Act of 2008 expanded the authority of the Secretary of Agriculture (the Secretary) to provide awards under the program and transferred the administrative authority to the OPPE. The Agricultural Act of 2014 further expanded the program to include outreach and assistance to veterans. The 2501 Program extends USDA's capacity to work with members of farming and ranching communities by funding projects that enhance the equitable participation of socially disadvantaged and veteran farmers and ranchers in USDA programs. It is the OPPE's intention to build lasting relationships between USDA, the recipient's organizations, and socially disadvantaged and veteran farmers and ranchers.

2. Only one proposal will be accepted from each organization. This does not apply to applicants in the State of Massachusetts. The State fiscal transfer agent may submit multiple proposals ensuring that only one proposal is submitted on behalf of each of its individual fiscally sponsored organizations.

B. Scope of Work

The 2501 Program provides funding to eligible organizations for training and technical assistance projects designed to assist socially disadvantaged and veteran farmers and ranchers in owning and operating viable agricultural enterprises. This is a non-construction grant. Proposals must be consistent with requirements stated in 7 U.S.C. 2279(c)(3). Under this statute, the outreach and technical assistance program funds shall be used exclusively:

1. To enhance coordination of the outreach, technical assistance, and education efforts authorized under agriculture programs;

2. To assist the Secretary of Agriculture in:

a. Reaching current and prospective socially disadvantaged farmers or ranchers and veteran farmers or ranchers in a linguistically appropriate manner; and

b. improving the participation of those farmers and ranchers in USDA programs.

Proposals from eligible entities must address two or more of the following priority areas:

1. Assist socially disadvantaged or veteran farmers and ranchers in owning and operating successful farms and ranches;

2. Improve participation among socially disadvantaged or veteran farmers and ranchers in USDA programs;

3. Build relationships between current and prospective farmers and ranchers who are socially disadvantaged or veterans and USDA's local, state, regional, and National offices;

4. Introduce agriculture-related information to socially disadvantaged or veteran farmers and ranchers through innovative training and technical assistance techniques; and

5. Introduce agricultural education targeting socially disadvantaged youth, and/or socially disadvantaged beginning farmers and ranchers, in rural and persistent poverty communities.

OPPE is required to seek input from stakeholders providing technical assistance under this grant program at least annually. This is to ensure that the program is responsive to the eligible entities providing technical assistance (7 U.S.C. 2279(c)(4)(J)). To fulfill this obligation, the OPPE may require Project Directors to attend an annual training conference that can be expensed with awarded grant funds not to exceed $1,000 per award. The conference will allow recipients, USDA officials, and other agriculture-related guests to share ideas and lessons learned; provide training on performance and financial reporting requirements; and provide information on USDA programs and services. Project Directors will also have an opportunity to make contacts in their field and regions and gather information on best practices. Stakeholder input will also be accepted by those unable to attend the annual symposium in person by September 30th of each fiscal year at: 2501grants@usda.gov.

C. Anticipated Outputs (Activities), Outcomes (Results), and Performance Measures

1. Outputs (Activities). The term “output” means an outreach, educational component, or assistance activity, task, or associated work product related to improving the ability of socially disadvantaged and veteran farmers and ranchers to own and operate farms and ranches, assistance with agriculture related activities, or guidance for participation in USDA programs. Outputs may be quantitative or qualitative but must be measurable during the period of performance.

Examples of outputs from the projects to be funded under this announcement may describe an organization's activities and their participants such as: Number of workshops or meetings held and number of participants attending; frequency of services or training delivered; and to whom and/or development of products, curriculum, or resources provided. Other examples include but are not limited to the following:

a. Number of socially disadvantaged and veteran farmers or ranchers served;

b. number of conferences or training sessions held and number of socially disadvantaged and veteran farmers and ranchers who attended;

c. type and topic of educational materials distributed at outreach events;

d. creation of a program to enhance the operational viability of socially disadvantaged and veteran farmers and ranchers;

e. number of completed applications submitted for consideration for USDA programs; or

f. activity that supports increased participation of socially disadvantaged farmers and ranchers and veteran farmers and ranchers in USDA programs.

Progress and Financial Reports will be required, as specified in Section VI, Subsection D, “Reporting Requirement.”

2. Outcomes (Results). The term “outcome” means the difference or effect that has occurred as a result from carrying out an activity, workshop, meeting, or from delivery of services related to a programmatic goal or objective. Outcomes refer to the final impact, change, or result that occurs as a direct result of the activities performed in accomplishing the objectives and goals of your project. Outcomes may refer to results that are agricultural, behavioral, social, or economic in nature. Outcomes may reflect an increase in knowledge or skills, a greater awareness of available resources or programs, or actions taken by stakeholders as a result of learning. Specifically, outcomes must be quantitative as it relates to the project goals and objectives.

Project Directors will be required to document anticipated outcomes that are funded under this announcement including, but not limited to the following:

a. Number of new farmers and/or ranchers as a result of your award;

b. number of farmers and/or ranchers whom applied to participate in USDA's programs and services among socially disadvantaged and veteran farmers and ranchers by program area, race, sex, national origin and disability;

c. number of applications approved for funding among socially disadvantaged and veteran farmers and ranchers as a result of your activities funded with grant funds by program area, race, sex, national origin and disability;

d. number of farmers and/or ranchers whom have increased access to and participation in USDA's programs and services for socially disadvantaged and veteran farmers and ranchers to increase outreach efforts through effective communication linguistically appropriate;

e. increase in sustainability and retention of socially disadvantaged and veteran farming operations;

f. increase in profitability and economic stability resulting from increased marketing and sales opportunities for the products of socially disadvantaged and veteran farmers and ranchers; and

g. increase in the number of USDA Agency's programs and services utilized.

3. Performance Measures. Performance measures are tied to the goals or objectives of each activity and ultimately the overall purpose of the project. They provide insight into the effectiveness of proposed activities by indicating areas where a project may need adjustments to ensure success. Applicants must develop performance measure expectations which will occur as a result of their proposed activities. These expectations will be used as a mechanism to track the progress and success of a project. Project performance measures should include statements such as: Whether workshops or technical assistance will meet the needs of farmers or ranchers in the service area and why; how much time will be spent in group training or individual hands-on training of farmers and ranchers in the service area; or whether activities will meet the demands of stakeholders. Project performance measures must include the assumptions used to make those estimates.

Consider the following questions when developing performance measurement statements:

• What is the measurable short-term and long-term impact the project will have on servicing or meeting the needs of stakeholders?

• How will the organization measure the effectiveness and efficiency of their proposed activities to meet their overall goals and objectives?

II. Award Information

A. Statutory Authority

The statutory authority for this action is 7 U.S.C. 2279(c), which authorizes award funding for projects designed to provide outreach and assistance to socially disadvantaged and veteran farmers and ranchers.

B. Expected Amount of Funding

The total estimated funding expected to be available for awards under this competitive opportunity is approximately $16 million, including funds provided in the 2018 Farm Bill and the Consolidated Appropriations Act of 2019. Funding will be awarded in the following three categories for a maximum of $750,000:

A. Proposals less than $300,000

B. Proposals between $300,000-$525,000

C. Proposals exceeding $525,000

C. Project Period

The performance period for projects selected from this solicitation will not begin prior to the effective award date listed in the grant agreement. The maximum project period is three (3) years.

D. Award Type

Funding for selected projects will be in the form of a grant agreement which must be fully executed no later than September 30, 2019. The anticipated Federal involvement will be limited to the following activities:

1. Approval of recipients' final budget and statement of work accompanying the grant agreement;

2. Monitoring of recipients' performance through quarterly, annual and final financial and performance reports; and

3. Evaluation of recipients' use of federal funds through desk audits and on-site visits.

III. Eligibility Information

A. Eligible Entities

1. Any not for profit community-based organization, network, or coalition of community-based organizations that:

• Demonstrates experience in providing agricultural education or other agricultural-related services to socially disadvantaged or veteran farmers and ranchers;

• provides documentary evidence of work with, and on behalf of, socially disadvantaged or veteran farmers and ranchers during the 3-year period preceding the submission of a proposal for assistance under this program; and

• does not or has not engaged in activities prohibited under Section 501(c)(3) of the Internal Revenue Code of 1986.

2. An 1890 or 1994 institution of higher education (as defined in 7 U.S.C. 7601).

3. An American Indian Tribal community college or an Alaska Native cooperative college.

4. A Hispanic-Serving Institution of higher education (as defined in 7 U.S.C. 3103).

5. Any other institution of higher education (as defined in 20 U.S.C. 1001) that has demonstrated experience in providing agricultural education or other agricultural-related services to socially disadvantaged farmers and ranchers.

6. An Indian Tribe (as defined in 25 U.S.C. 5304) or a national tribal organization that has demonstrated experience in providing agricultural education or other agriculturally-related services to socially disadvantaged farmers and ranchers.

7. All other organizations or institutions that received funding under this program before January 1, 1996, but only with respect to projects that the Secretary considers similar to projects previously carried out by the entity under this program.

B. Cost-Sharing or Matching

Matching is not required for this program.

C. Threshold Eligibility Criteria

Applications from eligible entities that meet all criteria will be evaluated as follows:

1. Proposals must comply with the submission instructions and requirements set forth in Section IV of this announcement. Pages in excess of the page limitation will not be considered.

2. Proposals must be received through www.grants.gov as specified in Section IV of this announcement on or before the proposal submission deadline. Applicants will receive an electronic confirmation receipt of their proposal from www.grants.gov.

3. Proposals received after the submission deadline will not be considered. Please note that in order to submit proposals, organizations must create accounts in www.grants.gov and in the System for Awards Management (SAM.gov); both of which could take several weeks. Therefore, it is strongly suggested that organizations begin this process immediately. Registering early could prevent unforeseen delays in submitting your proposal.

4. Proposals must address a minimum of two or more of the priority areas that provide outreach and assistance to socially disadvantaged or veteran farmers and ranchers as stated in Section I, Subsection B, Scope of Work.

5. Incomplete or partial applications will not be eligible for consideration.

IV. Proposal and Submission Information

A. System for Award Management (SAM)

It is a requirement to register for SAM (www.sam.gov). There is NO fee to register for this site.

Per 2 CFR part 200, applicants are required to: (1) Be registered in SAM prior to submitting an application; (2) provide a valid unique entity identifier in the application; and (3) continue to maintain an active SAM registration with current information at all times during which the organization has an active Federal award or an application or plan under consideration by a Federal awarding agency. The OPPE may not make a Federal award to an applicant until the applicant has complied with all applicable unique entity identifier and SAM requirements. If an applicant has not fully complied with the requirements by the time the OPPE is ready to make a Federal award, OPPE may determine that the applicant is not qualified to receive a Federal award and use that determination as a basis for making a Federal award to another applicant.

SAM contains the publicly available data for all active exclusion records entered by the Federal Government identifying those parties excluded from receiving Federal contracts, certain subcontracts, and certain types of Federal financial and non-financial assistance and benefits. All applicant organizations and their key personnel will be vetted through SAM.gov to ensure they are in compliance with this requirement and not on the Excluded Parties List. Organizations identified as having delinquent Federal debt may contact the Treasury Offset Program at (800) 304-3107 for instructions on resolution, but will not be awarded a 2501 Program grant prior to resolution.

B. Obtain Proposal Package From www.grants.gov

Applicants may download individual grant proposal forms from www.grants.gov. For assistance with www.grants.gov, please consult the Applicant User Guide at http://grants.gov/assets/ApplicantUserGuide.pdf.

Applicants are required to submit proposals through www.grants.gov. Applicants will be required to register through www.grants.gov in order to begin the proposal submission process. We strongly suggest you initiate this process immediately to avoid processing delays due to registration requirements.

Federal agencies post funding opportunities on www.grants.gov. The OPPE is not responsible for submission issues associated with www.grants.gov. If you experience submission issues, please contact www.grants.gov support staff for assistance.

Proposals must be submitted by August 15, 2019, via www.grants.gov at 11:59 p.m. EST. Proposals received after this deadline will not be considered.

C. Content of Proposal Package Submission

All submissions must contain completed and electronically signed original application forms, as well as a Project Summary, Project Narrative, and a Budget Narrative as described below:

1. Forms and documents. The forms listed below can be found in the proposal package at www.grants.gov and must be submitted with all applications. Required forms are provided as fillable PDF templates. Applicants must download and complete these forms and submit them in the application submission portal at www.grants.gov. PDF documents listed below are documents the applicant must create in Word format and then submit in PDF format.

• Standard Form (SF) 424, Application for Federal Assistance

• Standard Form (SF) 424A, Budget Information-Non-Construction Programs

• Standard Form (SF) 424B, Assurances—Non-Construction Programs

• Key Contacts Form (please provide first, middle, and last names)

• PDF document of 1-Page Project Summary

• PDF document of Project Narrative

• PDF document of Budget Narrative

• Form AD-3031, Assurance Regarding Felony Conviction or Tax Delinquent Status for Corporate Applicants

Please note, additional required forms from organizations being awarded 2501 Grant funds will be provided for execution upon grant approval.

2. Attachments. The attachments listed below are required for all proposals and must be included in the proposal package at www.grants.gov. Attachment 1 will consist of the Project Summary Page and the Project Narrative. Attachment 2 will consist of the Budget Narrative. Please submit the summary and narratives in PDF format to preserve the content and formatting. Attachment 3 will consist of Appendices. NOTE: Number each page of each attachment and indicate the total number of pages per attachment (i.e., 1 of 15, 2 of 15, etc.). DO NOT PASSWORD PROTECT ANY OF YOUR SUBMITTED DOCUMENTS. Documents that are password protected cannot be viewed by the OPPE staff or members of the Independent Review Panel.

Attachment 1: Project Summary Page. The proposal must contain a Project Summary Page, which should not be numbered and must follow immediately after the SF Form 424, Application for Federal Assistance form. The Project Summary Page is limited to 250 words and should be written as a CONCISE summary or advertisement about your project. It should contain:

• Your organization's name;

• Name of your project;

• Three or four sentences describing your project;

• The primary populations/communities you serve;

• The project's geographic service area (counties, state(s), etc.); and

• Project Director's name, email address, and telephone number.

No points will be given or subtracted for the Project Summary Page as it will be used for informational purposes. Organizations can expect that the Project Summary Page may be used in its entirety or in part for media purposes to include press releases, informational emails to potential stakeholders or partners, to provide upper echelons of government with a snapshot of an organization, and for demographic purposes. Please do not restate the objectives of the 2501 Program (i.e., “to provide outreach and assistance for socially disadvantaged farmers and ranchers and veterans farmers and ranchers”); it should reflect the goal of your specific project.

• Attachment 1: Project Narrative. In 20 double-spaced pages or less, using 1-inch margins and 12-point font, indicate the organization that will conduct the project and the priority areas that will be addressed by the project. Please be concise. Note: Members of the review panel will not be required to review proposals from organizations that have deviated from these formatting specifications.

○ Project proposals should include a well-conceived strategy for addressing the priority areas stated in Section I, Part B, Scope of Work. Additionally, proposals must: (1) Define and establish the existence of the needs of socially disadvantaged farmers and ranchers, veteran farmers and ranchers, or both; (2) identify the geographic area of service; and (3) discuss the potential impact of the project.

○ Programmatic Capability: Project proposals must: (1) Identify the experience of the organization(s) taking part in the project (past successes); (2) identify the names of organizations that will be your partners in the project if any; (3) identify the qualifications, relevant experience, education, and publications of each Project Director or collaborator; (4) specifically address the work to be completed by key personnel and the roles and responsibilities within the scope of the proposed project.

○ Financial Management Experience: Document a demonstrated ability to successfully manage and complete your project by including details of past successfully completed projects and financial management experiences.

○ Tracking and Measuring: Clearly document a detailed plan for tracking and measuring the progress and results of the project in terms of achieving expected project outputs and outcomes as stated in Section I, Part C, Performance Measures.

○ In an organized format, create a timeline for each task to be accomplished during the period of performance timeframe. Relate each task to one of the five priority areas in Section I, Subsection B. The timeline is part of the 15-page limit but can be as simple as a one-page description of tasks.

• Attachment 2: Budget Narrative. The Budget Narrative should identify and describe the costs associated with the proposed project, including sub-awards or contracts and indirect costs. Please refer to 2 CFR 200 Subpart E—Cost Principles, to review allowable/unallowable costs. Applicants may charge their negotiated indirect cost rate or 10 percent, whichever is lower. Indirect cost rates exceeding 10 percent will not be permitted. Other funding sources may also be identified in this attachment. Each cost indicated must be reasonable, allocable, necessary, and allowable under the Federal Cost Principles (2 CFR part 200, subpart E—Cost Principles) in order to be funded. The Budget Narrative should not exceed two pages and is not part of the Project Narrative.

• Attachment 3: Appendices. Organizations may submit abbreviated Articles of Incorporation for recently established organizations (must have been established at least 3 years prior to this application); résumés for key personnel; Letters of Commitment; Letters of Intent, Partnership Agreements, or Memoranda of Understanding with partner organizations; Letters of Support; 501(c)(3) certification from the IRS, or other supporting documentation which is encouraged but not required. Applicants can consolidate all supplemental materials into one additional attachment. Do not include sections from other attachments as an Appendix.

Checklist of documents to submit through www.grants.gov:

1. SF-424, Application for Federal Assistance. Note: Ensure this is completed with accuracy; particularly email addresses and phone numbers. The OPPE may not be able to reach you if your information is incorrect.

2. Project Summary Page (no more than 250 words).

3. Project Narrative including a timeline (no more than 20 pages, 12-point font, and 1-inch margins only).

Note: To ensure fairness and uniformity for all applicants, Project Narratives not conforming to this stipulation may not be considered.

4. SF-424A, Budget Information-Non-Construction Programs

5. SF 424B, Assurances—Non-Construction Programs

6. Budget Narrative (not to exceed 2 pages)

7. Key Contacts Form (include the Project Director/Manager and Financial Representative). Provide first, middle, and last names.

Note: Please ensure this form is completed with accuracy. Individuals not listed on an applicants' Key Contact Form will not receive information about or access to data that concerns the applicant organization.

8. Résumés of key personnel, Partnership Agreements, Letters of Intent, Support, or Recommendation, proof of 501(c)(3) status (if applicable), etc.

Best practice notes:

* Complete the following as soon as possible:

(1) Obtain a registered DUNs number.

(2) Register and maintain an active System for Award Management (SAMs) account.

(3) Register in www.grants.gov.

* Only submit Adobe PDF file format documents to www.grants.gov to preserve content and formatting.

* Documents must be named with short titles to prevent issues with uploading/downloading documents from www.grants.gov. Documents with long names may not always upload/download properly.

* Do not password protect any submitted forms or documents.

* Ensure all the information on your SF-424 Application and Key Contact forms are correct. Please include first, middle, and last names on Key Contact forms.

UPLOADING ATTACHMENTS ON YOUR APPLICATION. There are three blocks on the application where you may upload attachments:

* On block 14, click on “Add Attachment” to upload your Project Summary and Project Narrative.

* In the section that reads “Budget Narrative File(s)”, type in the “Mandatory Budget Narrative Filename”. Just below the file name, click on “Add Mandatory Budget Narrative” to upload your Budget Narrative.

* After block 15, click on “Add Attachments” to add all your supporting documents (résumés, Partnership Agreements, Letters of Support, etc.).

D. Sub-Awards and Partnerships

Funding may be used to provide sub-awards, which includes using sub-awards to fund partnerships; however, the recipient must utilize at least 50 percent of the total funds awarded, and no more than three sub-awards will be permitted. All sub-awardees must comply with applicable requirements for sub-awards. Applicants must provide documentation of a competitive bidding process for services, contracts, and products, including consultant contracts, and conduct cost and price analyses to the extent required by applicable procurement regulations.

The OPPE awards funds to one eligible applicant as the recipient. Please indicate a lead applicant as the responsible party if other organizations are named as partners or co-applicants or members of a coalition or consortium. The recipient will be held accountable to the OPPE for the proper administrative requirements and expenditure of all funds.

E. Submission Dates and Times

The closing date and time for receipt of proposal submissions is August 15, 2019, at 11:59 p.m., EST, via www.grants.gov. Proposals received after the submission deadline will be considered late without further consideration. Proposals must be submitted through www.grants.gov without exception. Additionally, organizations must also be registered in the SAM (www.sam.gov). Creating an account for both websites can take several weeks to receive account verification and/or PIN numbers. Please allow sufficient time to complete access requirements for these websites. The proposal submission deadline is firm.

F. Confidential Information

In accordance with 2 CFR part 200, the names of entities submitting proposals, as well as proposal contents and evaluations, will be kept confidential to the extent permissible by law. Any information that the applicant wishes to have considered as confidential, privileged, or proprietary should be clearly marked as such in the proposal. If an applicant chooses to include confidential or proprietary information in the proposal, it will be kept confidential to the extent permitted by law.

G. Pre-Submission Proposal Assistance

1. The OPPE may not assist individual applicants by reviewing draft proposals or providing advice on how to respond to evaluation criteria. However, the OPPE will respond to questions from individual applicants regarding eligibility criteria, administrative issues related to the submission of the proposal, and requests for clarification regarding the announcement. Any questions should be submitted to 2501grants@usda.gov. Additionally, OPPE will host public teleconferences to address clarifying questions during the open period of this solicitation as listed on Page 1.

2. The OPPE will post questions and answers relating to this funding opportunity during its open period on the Frequently Asked Questions (FAQs) section of our website: http://www.outreach.usda.gov/grants/. Reviewing this section of our website will likely save you valuable time. The OPPE will update the FAQs on a weekly basis and conduct webinars on an as-needed basis.

3. Please visit our website at: https://www.outreach.usda.gov/grants/index.htm to review the most recent Terms and Conditions for administering our grants. This version is subject to change upon new program requirements.

V. Application Review Information

A. Evaluation Criteria

Only eligible entities whose proposals meet the threshold criteria in Section III of this announcement will be reviewed according to the evaluation criteria set forth below. Applicants should explicitly and fully address these criteria as part of their proposal package. Each proposal will be evaluated under the regulations established under 2 CFR part 200.

An Independent Review Panel will use a point system to rate each proposal, awarding a maximum of 100 points (80 points, plus an additional 20 discretionary points for secretarial priorities). Each proposal will be reviewed by at least two members of the Independent Review Panel who will review and score all applications submitted. The Independent Review Panel will numerically score and rank each application within the three funding categories. Funding decisions will be based on the Independent Review Panel's recommendations to the designated approving official. Final funding decisions will be made by the designated approving official and are not appealable.

Please be patient as processing all submitted applications, vetting key personnel, proposal reviews, approval process, and agreement creation is a lengthy process that takes approximately two to three months. All applicants will be notified of their application status when final selections have been made.

B. Evaluation Criteria for New Grants Proposals

Criteria | Points
1. Project Narrative: Under this criterion, your proposal will be evaluated to the extent to which the narrative includes a well-conceived strategy for addressing the requirements and objectives stated in Section I, Part B, Scope of Work, (see page 5, Project Narrative, for further clarification) identifying a minimum of two or more of the priority areas | 40
In addition, the OPPE may award up to 20 discretionary points (five (5) points each) for the following eligible entities: | 20
• Nongovernmental and community-based organizations with an expertise in working with socially disadvantaged and/or veteran farmers and ranchers (2018 Farm Bill provision). • Projects to assist states/communities identified as rural and/or persistent poverty; • Projects assisting beginning and/or youth farmers and ranchers (as defined in 7 U.S.C. 3319f); • Projects with an emphasis on partnering and leveraging funding with other organizations, entities or programs to maximize areas of coverage for outreach (i.e., nonprofits, for profits, Federal, state, tribal and local entities, higher education institutions, etc.).
2. Programmatic Capability: Under this criterion, applicants will be evaluated based on their ability to successfully complete and manage the proposed project considering the applicant's: Organizational experience, its staff's expertise and/or qualifications, and the organization's resources. The organization must also clearly document its historical successes and future plans to continue assisting socially disadvantaged and veteran farmers and ranchers | 10.
3. Financial Management Experience: Under this criterion, applicants will be evaluated based on their demonstrated ability to successfully complete and manage the proposed project considering the applicants' past performance in successfully completing and managing prior funding agreements identified, Section I, Part C, Performance Measures (see page 8). Past performance documentation on successfully completed projects may be at the Federal, state, or local community level. Per 2 CFR 200.205, if an applicant is a prior recipient of Federal awards, their record in managing that award will be reviewed, including timeliness of compliance with applicable reporting requirements and conformance to the terms and conditions of previous Federal awards | 5
4. Tracking and Measuring: Under this criterion, the applicant's proposal will be evaluated based upon clearly documenting a detailed plan for tracking and measuring their progress toward achieving the expected project outputs and (see page 6). Applicants should indicate how they intend to clearly document the effectiveness of their project in achieving proposed thresholds or benchmarks in relation to stated goals and objectives. For example, state how your organization plans to connect socially disadvantaged and veteran farmers and ranchers with USDA agricultural programs. Specifically, how many new or existing farmers and ranchers were assisted in applying for USDA's programs and services, versus the number of farmers and ranchers approved. Applicants must clearly demonstrate how they will ensure timely and successful completion of the project with a reasonable time schedule for execution of the tasks associated with the projects. This criterion should clearly address how you will quantify the tracking of your progress and measuring the success of your planned project | 15
5. Budget: Under this criterion, proposed project budget will be evaluated to determine whether costs are reasonable, allowable, allocable, and necessary to accomplish the proposed goals and objectives; and whether the proposed budget provides a detailed breakdown of the approximate funding used for each major activity. Additionally, indirect costs (10 percent maximum) must be appropriately applied (see page 14). Food for conferences may not exceed $10 per person. Additionally, cattle for demonstration projects only, may not exceed $4000, which includes any transportation costs, feed/feeding lot, etc.). Grant funds may NOT be used to pay attendees as an incentive for participation in conferences nor be advertised as such. For a list of unallowable costs, please see 2 CFR Part 200, subpart E | 10

C. Selection of Reviewers

All applications will be reviewed by members of an Independent Review Panel. Panel members are selected based upon training and experience in assisting socially disadvantaged and veteran farmers and ranchers. This assistance includes, but is not limited to, bringing increased awareness of USDA's programs and services in underserved communities, outreach, technical assistance, cooperative extension services, civil rights, education, statistical, and ethnographic data collection and analysis, and agricultural programs, and are drawn from a diverse group of experts, including applicant peers, to create a balanced panel.

VI. Award Administration Information

A. Award Notices

Proposal Notifications and Feedback

1. Successful applicants will be notified by the OPPE via telephone, email, and/or postal mail that its proposed project has been recommended for award. The notification will be sent to the Project Manager listed on the SF-424, Application for Federal Assistance. Project Managers should be the Authorized Organizational Representative (AOR) and authorized to sign on behalf of the organization. It is imperative that this individual is responsive to notifications by the OPPE. If the individual is no longer in the position, please notify the OPPE immediately to submit the new contact for the application by updating your organization's Key Contact form and forwarding a résumé of the new key personnel. The award notice will be forwarded to the recipient for execution and must be returned to the OPPE Director, who is the authorizing official. Once grant documents are executed by all parties, authorization to begin work will be given. At a minimum, this process can take up to 30 days from the date of notification.

2. Within 10 days of award status notification, unsuccessful applicants may request feedback on their application. Feedback will be provided as expeditiously as possible. Feedback sessions will be scheduled contingent upon the number of requests and in accordance with 7 CFR 2500.026.

B. Administrative and National Policy Requirements

All awards resulting from this solicitation will be administered in accordance with the Office of Management and Budget (OMB) Uniform Administrative Requirements, Cost Principles, and Audit Requirements for Federal Awards codified at 2 CFR part 200, as supplemented by USDA implementing regulations at 2 CFR parts 400 and 415, and OPPE Federal Financial Assistance Programs—General Award Administrative Procedures, 7 CFR part 2500. In compliance with its obligations under Title VI of the Civil Rights Act of 1964 and Executive Order 13166, it is the policy of the OPPE to provide timely and meaningful access for persons with Limited English Proficiency (LEP) to projects, programs, and activities administered by Federal grant recipients. Recipient organizations must comply with these obligations upon acceptance of grant agreements as written in OPPE's Terms and Conditions. Following these guidelines is essential to the success of our mission to improve access to USDA programs for socially disadvantaged and veteran farmers and ranchers.

C. Data Universal Numbering System, System for Award Management, and www.grants.gov.

In accordance with the Federal Funding Accountability and Transparency Act (FFATA) and the USDA implementation, all applicants must obtain and provide an identifying number from Dun and Bradstreet's (D&B) Data Universal Numbering System (DUNS). Applicants can receive a DUNS number, at no cost, by calling the toll-free DUNS number request line at (866) 705-5711 or visiting the D&B website at www.dnb.com.

In addition, FFATA requires applicants to register with the System for Award Management (SAM). This registration must be maintained and updated annually. Applicants can register or update their profile, at no cost, by visiting the SAM website at www.sam.gov. This is a requirement to register for www.grants.gov.

All applicants must register for an account on www.grants.gov to submit their application. There is no cost for registration. All applications must be submitted through www.grants.gov. This website is managed by the Department of Health and Human Services, not OPPE. Many Federal agencies use this website to post Funding Opportunity Announcements (FOA). Please click on the “Support” tab to contact their customer support personnel for help with submitting your application.

D. Reporting Requirement

Your approved statement of work, timeline, and budget are your guiding documents in carrying out the activities of your project and for your reporting requirements. Please familiarize yourself with USDA's grants management system called ezFedGrants: https://www.nfc.usda.gov/FSS/ClientServices/ezFedGrants/. In accordance with 2 CFR part 200, the following reporting requirements will apply to awards provided under this FOA. The OPPE reserves the right to revise the schedule and format of reporting requirements as necessary in the award agreement.

1. Quarterly Progress Reports and Financial Reports will be required as follows:

• Quarterly Progress Reports. The recipient must submit the most current OMB-approved Performance Progress Report form (SF-PPR). For each report, the recipient must complete fields 1 through 12 of the SF-PPR. To complete field 10, the recipient is required to provide a detailed narrative of project performance and activities as an attachment, as described in the award agreement. Quarterly progress reports must be submitted to the designated OPPE official via ezFedGrants within 30 days after the end of each calendar quarter.

• Quarterly Financial Reports. The recipient must submit SF 425, Federal Financial Report. For each report, the recipient must complete both the Federal Cash Transaction Report and the Financial Status Report sections of the SF-425. Quarterly financial reports must be submitted to the designated OPPE official via ezFedGrants within 30 days after the end of each calendar quarter.

2. Annual reports may be warranted for multi-year projects.

3. Final Progress and Financial Reports will be required upon project completion. This report must include a summary of the project or activity throughout the funding period, achievements of the project or activity, and a discussion of overall successes and issues experienced in conducting the project or project activities. It should convey the impact your project had on the communities you served and discuss the project's accomplishments in achieving expected outcomes. This requirement includes, but is not limited to, the number of new USDA applicants as a result of your award, the number of approved applicants for USDA programs and services, increased awareness of USDA programs and services, etc. The final Financial Report should consist of a complete SF-425 indicating the total costs of the project. Final Progress and Financial Reports must be submitted to the designated OPPE official via ezFedGrants within 90 days after the completion of the award period as follows:

Report | Performance period | Due date | Grace period
Form SF-425, Federal Financial Report and Progress Report (Due Quarterly) | 1 October thru 31 December 1 January thru 31 March 1 April thru 30 June 1 July thru 30 September | 12/31/2019 3/31/2020 6/30/2020 9/30/2020 | 1/30/2020 4/30/2020 7/30/2020 10/30/2020
Annual and Final Progress and Financial Reports | Earlier of December 30, 2020, or 90 days after project completion.
* Dates subject to change at the discretion of OPPE.

Signed this 8th day of July 2019.
Riley Pagett,
Chief of Staff, Office of Partnerships and Public Engagement.

[FR Doc. 2019-14825 Filed 7-15-19; 8:45 am]

BILLING CODE P